LIBRARY OF CONGRESS

Copyright Office

37 CFR Part 201

[Docket No. RM 97-5B]

Copyright Restoration of Works in Accordance With the Uruguay Round Agreements Act; Corrections Pertaining to Notices of Intent To Enforce Restored Copyrights

AGENCY: Copyright Office, Library of Congress.

ACTION: Correction of errors made pertaining to the filing of Notices of Intent to Enforce Restored Copyrights.

SUMMARY: This notice gives public notice that the Copyright Office is correcting certain errors in the filing and recordation of notices of intent to enforce restored copyrights under the Uruguay Round Agreement Act and issuing a policy decision permitting administrative correction of certain errors.

EFFECTIVE DATE: August 1, 2000.

FOR FURTHER INFORMATION CONTACT: Charlotte Douglass, Principal Legal Advisor to the General Counsel, Copyright GC/I&R, P.O. Box 70400, Southwest Station, Washington, D.C. 20024. Telephone: (202) 707-8380. Telefax: (202) 707-8366.

SUPPLEMENTARY INFORMATION: In 1997, the Copyright Office adopted an interim regulation which permitted correction of errors in the filing of Notices of Intent to Enforce (NIEs) restored copyrights under certain conditions, pursuant to the Uruguay Round Agreements Act. 62 FR 55736 (1997). In accordance with that regulation, a Correction Notice has been filed to correct certain information appearing on the NIE for the first work listed below, originally recorded effective August 22, 1997. The new information has been cataloged in Copyright Office records.

In a separate case, the Office has administratively amended the record for a Group NIE to reflect 45 additional titles not originally included. The effective date will be that of the original Group NIE, April 17, 1998. The Office is making this amendment to reflect a policy determination regarding the regulation permitting a single Group NIE to cover multiple works at a discounted rate where “all of the works are by the same author.” 37 CFR 201.33 (1999). Previously the Copyright Office neither indexed nor listed titles from a Group NIE that did not have complete identity of authorship with other titles. For example, if a Group NIE listed titles 1and 2 by Author A and title 3 by Coauthors A and B, the Office required an additional NIE to be filed before publishing or indexing the nonconforming title.

In response to an inquiry and reexamination of the matter, the Office has since determined that the regulation might reasonably have been interpreted to permit group filing where the works had at least one common author. The Office has, therefore, decided that when it becomes aware that it has refused to list titles from Group NIEs because the listed works did not contain total unity of authorship but had one or more common authors, the Copyright Office will amend the original NIE record to reflect the previously omitted titles and publish those titles in the Federal Register on the next scheduled four-month publication date. If any corrections are received, the next projected publication date is December 1, 2000.

List of Corrected Notices of Intent To Enforce

Correction NIE

Republic Entertainment Inc.

Mimi

Administrative NIE Correction

Sociedad Argentina de Autores y Compositores de Musica

Amargura

Amores de estudiante

Apure delantero buey

Arrabal amargo

Ave sin rumbo

Brisas

Criollita de mis amores

Cuando tu no estás

Caminito soleado

Campanitas

Criollita deci que si

Cuesta abajo

Desden

El dia que me quieras

En los campos en flor

En vano, en vano

Estudiante

Golondrinas

Guitarra, guitarra mia

Hay una virgen

Lejana tierra mia

Mañanita de sol

Me da pena confesarlo

Melodia de arrabal

Mi Buenos Aires querido

Mi caballo bayo

Mi moro

Los ojos de mi moza

Olvido

El pangare

Pobre gallo bataraz

Pobre mi negra

Por una cabeza

Recuerdo malevo

Rubias de New York

Silencio

Soledad

Sus ojos se cerraron

Tu y yo

Un bailongo

Vals de las guitarras

Viejos tiempos

Volver

Volvió una noche

Yo te adoro

Dated: July 25, 2000.
Marilyn J. Kretsinger,
Assistant General Counsel.

[FR Doc. 00-19098 Filed 7-31-00; 8:45 am]

BILLING CODE 1410-30-P